DEPARTMENT OF COMMERCE

International Trade Administration

[A-201-802]

Gray Portland Cement and Clinker from Mexico: Rescission of Antidumping Duty Administrative Review and Compromise of Outstanding Claims

AGENCY: Import Administration, International Trade Administration, Department of Commerce.

EFFECTIVE DATE: April 3, 2006

FOR FURTHER INFORMATION CONTACT: Hermes Pinilla or Minoo Hatten, AD/CVD Operations, Office 5, Import Administration, International Trade Administration, U.S. Department of Commerce, 14th Street and Constitution Avenue, NW., Washington, DC 20230; telephone (202) 482-3477 or (202) 482-1690, respectively.

SUPPLEMENTARY INFORMATION:

Rescission of Review

In August 2004, the petitioner, the Southern Tier Cement Committee, requested a review of the antidumping duty order on gray portland cement and clinker from Mexico with respect to sales by CEMEX, S.A. de C.V. (CEMEX), and CEMEX's affiliate, GCC Cemento, S.A. de C.V. (GCCC), during the period August 1, 2004, through July 31, 2005. In addition, in August 2005, CEMEX and GCCC requested reviews of their sales for the same period. On September 28, 2005, the Department published in the Federal Register a notice of initiation of this administrative review. See Notice of Initiation of Antidumping and Countervailing Duty Administrative Reviews, Request for Revocation in Part and Deferral of Administrative Review (70 FR 56631).

On March 6, 2006, the petitioner, CEMEX, and GCCC withdrew their requests for review and requested that the Department rescind the administrative review.

Compromise of Outstanding Claims

On March 6, 2006, the Office of the United States Trade Representative, the United States Department of Commerce, and Secretaria de Economia of the Government of Mexico entered into an Agreement on Trade in Cement (Agreement). Effective April 3, 2006, the Agreement compromises all claims to outstanding duties from August 1, 2004, through April 2, 2006, pursuant to Section 617 of the Tariff Act of 1930, as amended (the Act). In accordance with the terms of the Agreement, all parties that requested this administrative review (i.e., the petitioner, CEMEX, and GCCC) have submitted letters withdrawing their requests for an administrative review. See Section II. 7.a. and Appendix 9 of the Agreement. Also, see letter from CEMEX to the Department dated March 6, 2006, letter from GCCC to the Department dated March 6, 2006, and letter from the petitioner to the Department dated March 6, 2006. Section 351.213(d)(1) of the Department's regulations states that the Department will rescind an administrative review if a party requesting the review withdraws the request within 90 days of the publication of the notice of initiation. Further, 19 CFR 351.213(d)(1) allows the Department to extend the 90-day deadline if it considers it reasonable to do so. These requests are past the 90-day time limit but we find that it is reasonable to extend the deadline. Therefore, we are rescinding the review of the period August 1, 2004, through July 31, 2005.

In accordance with the terms of the Agreement, we will instruct U.S. Customs and Border Protection (CBP) to liquidate entries of cement produced or exported by CEMEX and GCCC which entered the United States during the period August 1, 2004, through July 31, 2005, at a rate of ten U.S. cents ($0.10) per metric ton. Further, because the Agreement compromises all claims through April 2, 2006, we will instruct CBP to liquidate entries of cement produced or exported by CEMEX and GCCC which entered the United States during the period August 1, 2005, through April 2, 2006, at a rate of ten U.S. cents ($0.10) per metric ton.

This notice is in accordance with section 777(i) of the Act and 19 CFR 351.213(d)(4).

Dated: April 3, 2006.
David M. Spooner,
Assistant Secretary for Import Administration.

[FR Doc. E6-5115 Filed 4-6-06; 8:45 am]

BILLING CODE 3510-DS-S